DEPARTMENT OF THE INTERIOR

National Park Service

[NPS-WASO-NAGPRA-NPS0033403; PPWOCRADN0-PCU00RP14.R50000]

Notice of Intent To Repatriate Cultural Items: The Trustees of Reservations, Boston, MA

AGENCY: National Park Service, Interior.

ACTION: Notice.

SUMMARY: The Trustees of Reservations in consultation with the appropriate Indian Tribes or Native Hawaiian organizations, has determined that the cultural items listed in this notice meet the definition of objects of cultural patrimony. Lineal descendants or representatives of any Indian Tribe or Native Hawaiian organization not identified in this notice that wish to claim these cultural items should submit a written request to The Trustees of Reservations. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to The Trustees of Reservations at the address in this notice by March 25, 2022.

FOR FURTHER INFORMATION CONTACT: Mark Wilson, Curator, The Trustees of Reservations, 1 Sergeant Street, P.O. Box 792, Stockbridge, MA 01262 telephone (413) 298-3239 Ext. 3018, email mwilson@thetrustees.org.

SUPPLEMENTARY INFORMATION: Notice is here given in accordance with the Native American Graves Protection and Repatriation Act (NAGPRA), 25 U.S.C. 3005, of the intent to repatriate cultural items under the control of The Trustees of Reservations, Boston, MA, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime in the 1930s, 20 cultural objects were removed from the Stockbridge-Munsee Community in Wisconsin. Miss Mabel Choate, working through an agent, purchased these objects for display at the Mission House Museum in Stockbridge, MA. (The purchase also included one communion set, which was returned to the Stockbridge-Munsee Community, Wisconsin in 2005; a two-volume Bible, which was returned to the Stockbridge-Munsee Community, Wisconsin in 1989; and six heirlooms of Sachem John Wannuaucon Quinney and Sachem Austin Quinney, which were returned to the Stockbridge-Munsee Community, Wisconsin in 2021.) In 1948, Miss Choate donated the Mission House and its contents, including these objects, to The Trustees of Reservations.

The 20 objects of cultural patrimony are: One woven basket (MH.P.16/8525); one woven basket with handle (MH.P.16/8526); one woven basket with handle (MH.P.16/8529); one tiered hanging basket (MH.P.16/8539); one woven basket (MH.P.16/8542); one basket (MH.P.314); one basket (MH.P.323); one box with lid (MH.P.321); one wood bowl (MH.P.16/8533); one wood bowl (MH.P.311); one food paddle (MH.P.16/8534); one food paddle (MH.P.310); one scoop (MH.P.308); one scoop with animal carving (MH.P.309); one Ziba T. Peters tobacco pipe (MH.P.313.1) and one pipe case (MH.P.313.2); one salt cellar (MH.P.16/8532); one kettle (MH.P.318); one conch shell (MH.C.Z.1); and one John Chickens powder horn (MH.2008.1). The John Chickens powder horn, conch shell, and scoop with animal carving date to the 18th century, while the remainder of the cultural objects listed in this notice date to the 19th century.

In the 1730s, in Stockbridge, Massachusetts, the Stockbridge Mohicans (present-day Stockbridge Munsee Community, Wisconsin) accepted the Reverend John Sergeant as a Christian missionary. In 1785, the Stockbridge Mohicans began to be forcibly removed from Stockbridge. Subsequently, they endured multiple removals from the Northeast before finally arriving in Wisconsin.

Cultural affiliation with the Stockbridge Munsee Community is established through records held in the archives of the Mission House. Consultation with representatives of the Stockbridge Munsee Community confirm that these objects have ongoing historical, traditional, and cultural importance central to the Stockbridge Munsee Community, Wisconsin.

Determinations Made by The Trustees of Reservations

Officials of The Trustees of Reservations have determined that:

• Pursuant to 25 U.S.C. 3001(3)(D), the 20 cultural objects described above have ongoing historical, traditional, or cultural importance central to the Native American group or culture itself, rather than property owned by an individual.

• Pursuant to 25 U.S.C. 3001(2), there is a relationship of shared group identity that can be reasonably traced between the objects of cultural patrimony and the Stockbridge Munsee Community, Wisconsin.

Additional Requestors and Disposition

Lineal descendants or representatives of any Indian Tribe or Native Hawaiian organization not identified in this notice that wish to claim these cultural items should submit a written request with information in support of the claim to Mark Wilson, Curator, The Trustees of Reservations, 1 Sergeant Street, P.O. Box 792, Stockbridge, MA 01262 telephone (413) 298-3239 Ext. 3018, email mwilson@thetrustees.org, by March 25, 2022. After that date, if no additional claimants have come forward, transfer of control of the objects of cultural patrimony to the Stockbridge Munsee Community, Wisconsin may proceed.

The Trustees of Reservations is responsible for notifying the Stockbridge Munsee Community, Wisconsin that this notice has been published.

Dated: February 9, 2022.
Melanie O'Brien,
Manager, National NAGPRA Program.

[FR Doc. 2022-03740 Filed 2-22-22; 8:45 am]

BILLING CODE 4312-52-P